OFFICE OF MANAGEMENT AND BUDGET

Performance Measurement Advisory Council

AGENCY: Office of Management and Budget, Executive Office of the President.

ACTION: Notice of Federal Advisory Committee meeting.

Open Meeting Notice: The Performance Measurement Advisory Council (“PMAC”) will meet on Thursday, June 27, 2002 from 8:30 a.m. to 2 p.m. Eastern Time. Location for the meeting will be the Eisenhower Room of the White House Conference Center, 726 Jackson Place, Washington, DC. The meeting is open to the public and written statements may be filed with the advisory committee. It is recommended that members of the public wishing to attend bring photo identification. Due to limited availability of seating, members of the public will be admitted on a first-come, first-served basis.

The purpose of the meeting is to provide independent expert advice and recommendations to the Office of Management and Budget regarding measures of program performance and the use of such measures in making management and budget decisions. The agenda and topics to be discussed include welcoming and introducing members of the Council and providing an overview of the processes and means utilized to assess the effectiveness of Federal programs and initiatives. An agenda may be obtained prior to the meeting at http://www.whitehouse.gov/omb/mgmt-gpra/index.html. Additional information, including information for members of the public with disabilities, may be obtained by calling Mr. Thomas M. Reilly, PMAC Designated Federal Officer, (202) 395-4926.

Dated: June 6, 2002.
Thomas M. Reilly,
PMAC Designated Federal Officer.

[FR Doc. 02-14639 Filed 6-7-02; 8:45 am]

BILLING CODE 3110-01-P